DEPARTMENT OF TRANSPORTATION

Federal Aviation Administration

14 CFR Part 39

[Docket No. 2001-NM-18-AD; Amendment 39-13093; AD 2003-06-06]

RIN 2120-AA64

Airworthiness Directives; Raytheon Model Hawker 800XP and 800 (Including Variant U-125A) Airplanes

AGENCY: Federal Aviation Administration, DOT.

ACTION: Final rule.

SUMMARY: This amendment adopts a new airworthiness directive (AD), applicable to certain Raytheon Model Hawker 800XP and 800 (including variant U-125A) airplanes, that requires a one-time inspection to identify the bolts installed at certain locations in the wing or fuselage, and corrective actions if necessary. The actions specified by this AD are intended to prevent failure of certain attachment bolts due to manufacturing discrepancies, which could result in reduced structural integrity of the airplane, and loss of system function for flaps, controls, and landing gear. This action is intended to address the identified unsafe condition.

DATES: Effective April 30, 2003.

The incorporation by reference of certain publications listed in the regulations is approved by the Director of the Federal Register as of April 30, 2003.

ADDRESSES: The service information referenced in this AD may be obtained from Raytheon Aircraft Company, Department 62, P.O. Box 85, Wichita, Kansas 67201-0085. This information may be examined at the FAA, Transport Airplane Directorate, 1601 Lind Avenue, SW., Renton, Washington; or at the FAA, Wichita Aircraft Certification Office, 1801 Airport Road, Room 100, Mid-Continent Airport, Wichita, Kansas; or at the Office of the Federal Register, 800 North Capitol Street, NW., suite 700, Washington, DC.

FOR FURTHER INFORMATION CONTACT: David Ostrodka, Senior Aerospace Engineer, Airframe Branch, ACE-118W, FAA, Wichita Aircraft Certification Office, 1801 Airport Road, Room 100, Mid-Continent Airport, Wichita, Kansas 67209; telephone (316) 946-4129; fax (316) 946-4407.

SUPPLEMENTARY INFORMATION: A proposal to amend part 39 of the Federal Aviation Regulations (14 CFR part 39) to include an airworthiness directive (AD) that is applicable to certain Raytheon Model Hawker 800XP and 800 (including variant U-125A) airplanes was published in the Federal Register on December 2, 2002 (67 FR 71505). That action proposed to require a one-time inspection to identify the bolts installed at certain locations in the wing or fuselage, and corrective actions if necessary.

Comments

Interested persons have been afforded an opportunity to participate in the making of this amendment. No comments were submitted in response to the proposal or the FAA's determination of the cost to the public.

Explanation of Editorial Changes

In the notice of proposed rulemaking (NPRM) we stated that, for Model Hawker 800 (including variant U-125A) airplanes, the proposed actions should be accomplished in accordance with Raytheon Service Bulletin SB 51-3421, Revision 1, dated November 2001. Both Revision 1 and the original issue of that service bulletin reference Appendix 1, dated December 2000, as an additional source of service information for performing the actions required by this final rule. Therefore, we have changed the service bulletin citation throughout this final rule to include Appendix 1.

We also stated in the NPRM that the proposed actions were to be accomplished per Raytheon Service Bulletins SB 51-3408, dated October 2000; and SB 51-3426, Revision 1, dated November 2001. However, SB 51-3408, SB 51-3426, and SB 51-3421 have an attached form titled Service Bulletin/Kit Drawing Report Fax. Throughout this final rule the citations for these service bulletins have been changed to exclude the form. Although this final rule does include a reporting requirement, it does not require that this form be completed by operators and submitted to the airplane manufacturer.

Conclusion

After careful review of the available data, we have determined that air safety and the public interest require the adoption of the rule with the changes previously described. We have determined that these changes will neither increase the economic burden on any operator nor increase the scope of the AD.

Cost Impact

There are approximately 104 airplanes of the affected design in the worldwide fleet. We estimate that 76 airplanes of U.S. registry will be affected by this AD, that it will take approximately 44 or 600 work hours per airplane (depending on configuration) to accomplish the required inspection, and that the average labor rate is $60 per work hour. Based on these figures, the cost impact of this AD on U.S. operators is estimated to be $2,640 or $36,000 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. The manufacturer may cover the cost of replacement parts associated with this AD, subject to warranty conditions. Manufacturer warranty remedies may also be available for labor costs associated with this AD. As a result, the costs attributable to the AD may be less than stated above.

Regulatory Impact

The regulations adopted herein will not have a substantial direct effect on the States, on the relationship between the national government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-06-06 Raytheon Aircraft Company: Amendment 39-13093. Docket 2001-NM-18-AD.

Applicability: Model Hawker 800XP and 800 (including variant U-125A) airplanes, certificated in any category; serial numbers 258287 through 258390, excluding the following serial numbers:

258289, 258291, 258292, 258293, 258294, 258295, 258301, 258303, 258310, 258312, 258313, 258315, 258321, 258336, 258343

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To prevent failure of certain attachment bolts due to manufacturing discrepancies, which could result in reduced structural integrity of the airplane, and loss of system function for flaps, controls, and landing gear, accomplish the following:

Inspection for Ravenstone Jackson Bolts

(a) Perform a general visual inspection to identify the type of bolts installed at specified locations of the wing and fuselage, in accordance with paragraphs (a)(1), (a)(2), (a)(3), (a)(4), and (a)(5), as applicable, of this AD.

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

(1) For Model Hawker 800XP airplanes identified in the effectivity of Raytheon Service Bulletin SB 51-3408, dated October 2000, excluding Service Bulletin/Kit Drawing Report Fax: Inspect within 12 months after the effective date of this AD in accordance with the service bulletin.

(2) For Model Hawker 800XP airplanes identified in the effectivity of Raytheon Service Bulletin SB 51-3426, Revision 1, dated November 2001, excluding Service Bulletin/Kit Drawing Report Fax: Inspect within 18 months after the effective date of this AD in accordance with the service bulletin. Inspection before the effective date of this AD in accordance with Raytheon Service Bulletin SB 51-3426, dated December 2000, excluding Service Bulletin/Kit Drawing Report Fax, is acceptable for compliance with the inspection requirements only for those locations identified in the original service bulletin; this AD requires inspections at additional locations in accordance with Revision 1 of the service bulletin.

(3) For Model Hawker 800 (including variant U-125A) airplanes identified as Group A airplanes in Raytheon Service Bulletin SB 51-3421, Revision 1, dated November 2001, including Appendix 1, dated December 2000, excluding Service Bulletin/Kit Drawing Report Fax: Inspect within 12 months after the effective date of this AD in accordance with the service bulletin. Inspection before the effective date of this AD in accordance with Raytheon Service Bulletin SB 51-3421, including Appendix 1, dated December 2000, excluding Service Bulletin/Kit Drawing Report Fax, is acceptable for compliance with this inspection requirement for Group A airplanes.

(4) For Model Hawker 800 (including variant U-125A) airplanes identified as Group B airplanes in Raytheon Service Bulletin SB 51-3421, Revision 1, dated November 2001, including Appendix 1, dated December 2000, excluding Service Bulletin/Kit Drawing Report Fax: Inspect within 18 months after the effective date of this AD in accordance with the service bulletin. Inspection before the effective date of this AD in accordance with Raytheon Service Bulletin SB 51-3421, including Appendix 1, dated December 2000, excluding Service Bulletin/Kit Drawing Report Fax, is acceptable for compliance with the inspection requirement only for those locations identified in the original service bulletin; this AD requires inspections at additional locations in accordance with Revision 1 of the service bulletin.

(5) For Model Hawker 800 (including variant U-125A) airplanes identified as Group C airplanes in Raytheon Service Bulletin SB 51-3421, Revision 1, dated November 2001, including Appendix 1, dated December 2000, excluding Service Bulletin/Kit Drawing Report Fax: Inspect within 12 months after the effective date of this AD in accordance with the service bulletin. Inspection before the effective date of this AD in accordance with Raytheon Service Bulletin SB 51-3421, including Appendix 1, dated December 2000, excluding Service Bulletin/Kit Drawing Report Fax, is acceptable for compliance with the inspection requirement only for those locations identified in the original service bulletin; this AD requires inspections at additional locations in accordance with Revision 1 of the service bulletin.

Inspection for Broken Bolts

(b) For any discrepant bolt (any Ravenstone Jackson DHS bolt or any bolt that cannot be identified) found during the inspection required by paragraph (a) of this AD: Before further flight following detection of the discrepant bolt, perform an ultrasonic inspection to determine if the bolt is broken, in accordance with the applicable service bulletin identified in paragraph (a) of this AD. Replace any broken bolt with a new bolt before further flight, in accordance with the applicable service bulletin.

Reporting Requirement

(c) If any broken bolt is found during the inspection specified in paragraph (b) of this AD: Send an inspection report at the applicable time specified in paragraph (c)(1) or (c)(2) of this AD to the Manager, Wichita Aircraft Certification Office (ACO), 1801 Airport Road, Room 100, Mid-Continent Airport, Wichita, Kansas 67209; fax (316) 946-4407. The report must include the inspection results, a description of all discrepancies found, and the airplane serial number. Information collection requirements contained in this AD have been approved by the Office of Management and Budget (OMB) under the provisions of the Paperwork Reduction Act of 1980 (44 U.S.C. 3501 et seq.) and have been assigned OMB Control Number 2120-0056.

(1) For airplanes on which the inspection is accomplished after the effective date of this AD: Submit the report within 30 days after performing the inspection required by paragraph (a) of this AD.

(2) For airplanes on which the inspection has been accomplished prior to the effective date of this AD: Submit the report within 90 days after the effective date of this AD.

Part Installation

(d) As of the effective date of this AD, no person may install on any airplane a Ravenstone Jackson DHS bolt having a batch number identified in paragraph 3.B. of Raytheon Service Bulletin SB 51-3426, Revision 1, dated November 2001; paragraph 3.A. Raytheon Service Bulletin SB 51-3421, Revision 1, dated November 2001; or paragraph 2.B. of Raytheon Service Bulletin SB 51-3408, dated October 2000.

Alternative Methods of Compliance

(e) An alternative method of compliance or adjustment of the compliance time that provides an acceptable level of safety may be used if approved by the Manager, Wichita ACO. Operators shall submit their requests through an appropriate FAA Principal Maintenance Inspector, who may add comments and then send it to the Manager, Wichita ACO.

Note 3: Information concerning the existence of approved alternative methods of compliance with this AD, if any, may be obtained from the Wichita ACO.

Special Flight Permits

(f) Special flight permits may be issued in accordance with sections 21.197 and 21.199 of the Federal Aviation Regulations (14 CFR 21.197 and 21.199) to operate the airplane to a location where the requirements of this AD can be accomplished.

Incorporation by Reference

(g) Unless otherwise specified in this AD, the actions shall be done in accordance with Raytheon Service Bulletin SB 51-3408, dated October 2000, excluding Service Bulletin/Kit Drawing Report Fax; Raytheon Service Bulletin SB 51-3426, Revision 1, dated November 2001, excluding Service Bulletin/Kit Drawing Report Fax; or Raytheon Service Bulletin SB 51-3421, Revision 1, dated November 2001, including Appendix 1, dated December 2000, and excluding Service Bulletin/Kit Drawing Report Fax; as applicable. Raytheon Service Bulletin SB 51-3421, Revision 1, contains the following list of effective pages:

Page No. | Revision level shown on page | Date shown on page
1, 3, 37, 49-51 | 1 | November 2001.
2, 4-36, 38-48, 52-171 | Original Appendix 1 | December 2000.
1-11 | Original | December 2000.

This incorporation by reference was approved by the Director of the Federal Register in accordance with 5 U.S.C. 552(a) and 1 CFR part 51. Copies may be obtained from Raytheon Aircraft Company, Department 62, P.O. Box 85, Wichita, Kansas 67201-0085. Copies may be inspected at the FAA, Transport Airplane Directorate, 1601 Lind Avenue, SW., Renton, Washington; or at the FAA, Wichita Aircraft Certification Office, 1801 Airport Road, Room 100, Mid-Continent Airport, Wichita, Kansas; or at the Office of the Federal Register, 800 North Capitol Street, NW., suite 700, Washington, DC.

Effective Date

(h) This amendment becomes effective on April 30, 2003.

Issued in Renton, Washington, on March 18, 2003.
Michael J. Kaszycki,
Acting Manager, Transport Airplane Directorate, Aircraft Certification Service.

[FR Doc. 03-6966 Filed 3-25-03; 8:45 am]

BILLING CODE 4910-13-P